DEPARTMENT OF THE INTERIOR

Fish and Wildlife Service

[FWS-HQ-IA-2013-N024; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before March 4, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Ronald Garison, Ozona, TX; PRT-94067A

The applicant requests a permit authorizing interstate and foreign commerce, export, and cull of excess scimitar-horned oryx (Oryx dammah) from the captive herd maintained at their facility, for the purpose of enhancement of the survival of the species. This notification covers activities to be conducted by the applicant over a 5-year period.

Applicant: Montgomery Zoo, Montgomery, AL; PRT-769096

The applicant requests renewal of their captive-bred wildlife registration under 50 CFR 17.21(g) for the following species, to enhance their propagation or survival. This notification covers activities to be conducted by the applicant over a 5-year period.

Species:

Banteng (Bos javanicus)

Slender-horned gazelle (Gazella leptoceros)

Indian rhinoceros (Rhinoceros unicornis)

Eld's deer (Cervus eldii)

Cheetah (Acinonyx jubatus)

Bengal tiger (Panthera tigris tigris)

Maned wolf (Chrysocyon brachyurus)

Spectacled bear (Tremarctos ornatus)

Andean condor (Vultur gryphus)

Galapagos tortoise (Geochelone nigra)

Applicant: International Crane Foundation, Baraboo, WI; PRT-691895

The applicant requests renewal of their captive-bred wildlife registration under 50 CFR 17.21(g) for the family Gruidae, to enhance their propagation or survival. This notification covers activities to be conducted by the applicant over a 5-year period.

Applicant: Oklahoma City Zoo, Oklahoma City, OK; PRT-683609

The applicant requests renewal of their captive-bred wildlife registration under 50 CFR 17.21(g) for the following families, genera, and species, to enhance their propagation or survival. This notification covers activities to be conducted by the applicant over a 5-year period.

Families:

Bovidae

Camelidae

Canidae

Cebidae

Cervidae

Equidae

Felidae (does not include jaguar, margay or ocelot)

Hominidae

Hylobatidae

Macropodidae

Manidae

Rhinocerotidae

Suidae

Tapiridae

Ursidae

Accipitridae

Anatidae (does not include Hawaiian duck or Hawaiian goose)

Bucerotidae

Cathartidae

Columbidae

Falconidae

Gruidae

Laridae

Psittacidae (does not include thick-billed parrot)

Rallidae

Strigidae

Struthionidae

Sturnidae (does not include Aplonis pelzelni)

Threskiornithidae

Alligatoridae

Boidae (does not include Mona boa or Puerto Rico boa)

Crocodylidae (does not include American crocodile)

Gekkonidae

Testudinidae

Species:

Asian elephant (Elephas maximus)

Applicant: Panther Ridge Sanctuary, Wellington, FL; PRT-203027

The applicant requests renewal of their captive-bred wildlife registration under 50 CFR 17.21(g) for the clouded leopard (Neofelis nebulosa) to enhance their propagation or survival. This notification covers activities to be conducted by the applicant over a 5-year period.

Applicant: West Coast Game Park, Bandon, OR; PRT-667821

The applicant requests renewal of their captive-bred wildlife registration under 50 CFR 17.21(g) for the following species, to enhance their propagation or survival. This notification covers activities to be conducted by the applicant over a 5-year period.

Species:

Leopard (Panthera pardus)

Snow leopard (Uncia uncia)

Applicant: Smoky Mountain Zoo, Pigeon Forge, TN; PRT-95036A

The applicant requests a captive-bred wildlife registration under 50 CFR 17.21(g) for the following species, to enhance their propagation or survival. This notification covers activities to be conducted by the applicant over a 5-year period.

Species:

Ring-tailed lemur (Lemur catta)

Black and white ruffed lemur (Varecia variegata)

Red ruffed lemur (Varecia rubra)

Cottontop tamarin (Saguinus oedipus)

Barasingha (Rucervus duvaucelii)

Scimitar-horned oryx (Oryx dammah)

Addax (Addax nasomaculatus)

Red lechwe (Kobus leche)

Applicant: Larry Johnson, Boerne, TX; PRT-89186A

The applicant requests a permit to export 40 live Arabian oryx (Oryx leucoryx) to Environment Agency Abu Dhabi, Abu Dhabi, United Arab Emirates for the purposes of enhancement of the survival of the species.

Brenda Tapia,
Program Analyst/Data Administrator, Branch of Permits, Division of Management Authority.

[FR Doc. 2013-02174 Filed 1-31-13; 8:45 am]

BILLING CODE 4310-55-P